DEPARTMENT OF HEALTH AND HUMAN SERVICES

Administration for Children and Families

Statement of Organization, Functions, and Delegations of Authority for Region II

This Notice amends Part K of the Statement of Organization, Functions, and Delegations of Authority of the Department of Health and Human Services (HHS), Administration for Children and Families (ACF) as follows: Chapter KD, the Regional Offices of the Administration for Children and Families for: Region II, as last amended (68 FR 65291-65303) November 19, 2003. This Notice announces the restructuring of the Office of State and Youth Programs. The Office is comprised of three Divisions: Self-Sufficiency Programs Division, Child Support Enforcement Division and Youth and Family Services Division which are headed by Program Managers who report directly to the Regional Administrator; this eliminates the Assistant Regional Administrator's position. In addition, the Office of Early Childhood Programs renamed their two Divisions: Head Start Division A; and Head Start Division B.

I. Chapter KD is amended as follows:

Region II, New York Office of ACF

A. Delete KD2.20 Functions, Paragraph C, in its entirety and replace with the following:

C. The Office of State and Youth Programs is comprised of three Divisions: Self-Sufficiency Programs Division; Child Support Enforcement Division and Youth and Family Services Division. The Divisions are headed by Program Managers who report directly to the Regional Administrator. The Office of State and Youth Programs is responsible for providing centralized program, financial management and technical administration of certain ACF formula, entitlement, block and discretionary programs, such as Temporary Assistance for Needy Families (TANF), Child Care Development Fund, Child Support, Child Welfare, Foster Care and Adoption Assistance, Child Abuse and Neglect, and Runaway and Homeless Youth.

The Office represents the Regional Administrator in dealing with the ACF central office, states and grantees on all program and financial management policy matters for programs under its jurisdiction. It alerts the Regional Administrator to problems or issues that have significant implications for the programs.

B. Delete KD2.20 Functions, Paragraph D, in its entirety and replace with the following:

D. The Office of Early Childhood Programs is headed by an Assistant Regional Administrator who reports to the Regional Administrator and consists of: Head Start Division A; and Head Start Division B.

The Office is responsible for providing a centralized program, financial management and technical administration of certain ACF formula, entitlement, and discretionary programs, such as Head Start and Early Head Start Programs, and Developmental Disabilities.

The Office represents the Regional Administrator in dealing with ACF central office, states and grantees on all program and financial management policy matters for programs under its jurisdiction. It alerts the Regional Administrator to problems or issues that have significant implications for the programs.

Dated: September 2, 2004.
Wade F. Horn,
Assistant Secretary for Children and Families.

[FR Doc. 04-20694 Filed 9-13-04; 8:45 am]

BILLING CODE 4184-01-M